DEPARTMENT OF HEALTH AND HUMAN SERVICES

Administration for Children and Families

Submission for OMB Review; TANF Expenditure Report, ACF-196R (OMB #0970-0446)

AGENCY: Office of Family Assistance, Administration for Children and Families, HHS.

ACTION: Request for public comment.

SUMMARY: The Administration for Children and Families (ACF) is requesting a 3-year extension of the Temporary Assistance for Needy Families (TANF) Expenditure Report, Form ACF-196R (OMB #0970-0446, expiration 2/28/2021). ACF is reporting a change to remove certain guidance that was associated with an earlier ACF-196 report in order to devote the instructions to the singular ACF-196R report. In addition, ACF has clarified instructions where states have previously expressed confusion and has reorganized the format and chronology of section headers to better reflect the flow of the TANF reporting process.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Grantees of the TANF program are required by statute to report financial data on a quarterly basis. Form ACF-196R is used by states administering the TANF program to report these quarterly expenditure data and to request quarterly grant funds. Failure to collect the data would seriously compromise the Office of Family Assistance and ACF's ability to monitor TANF expenditures and compliance with statutory requirements. These data are also needed to estimate outlays and to prepare reports and budget submissions for Congress.

Respondents: State agencies administering the TANF program (50 States and the District of Columbia).

Annual Burden Estimates

Note: The related Federal Register Notice that provided 60 days for initial public comment (85 FR 59529) included an error in the burden table. The error has been fixed in the following burden table. The number of respondents and time per response has not changed, but we have clarified that grantees respond 4 times per year, or 12 responses over a three year period.

Instrument | Total number of respondents | Total number of responses per respondent | Average burden hours per response | Total burden hours | Annual burden hours
TANF Expenditure Report, Form ACF-196R | 51 | 12 | 14 | 8,568 | 2,856

Estimated Total Annual Burden Hours: 2,856.

Authority: Social Security Act, Section 409; 45 CFR 265.3-265.9.

Mary B. Jones,
ACF/OPRE Certifying Officer.

[FR Doc. 2020-25771 Filed 11-20-20; 8:45 am]

BILLING CODE 4184-36-P